DEPARTMENT OF THE INTERIOR

National Park Service

[NPS-WASO-NAGPRA-NPS0025692; PPWOCRADN0-PCU00RP14.R50000]

Notice of Inventory Completion: U.S. Department of Agriculture, Tongass National Forest, Juneau Ranger District, Juneau, AK

AGENCY: National Park Service, Interior.

ACTION: Notice.

SUMMARY: The U.S. Department of Agriculture, Tongass National Forest, Juneau Ranger District, (Tongass National Forest) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of the human remains and associated funerary objects should submit a written request to the Tongass National Forest. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Tongass National Forest at the address in this notice by August 13, 2018.

ADDRESSES: M. Earl Stewart, Forest Supervisor, Tongass National Forest, 648 Mission Street, Ketchikan, AK 99901-6591, telephone (907) 228-6281, email estewart@fs.fed.us.

SUPPLEMENTARY INFORMATION: Notice is here given in accordance with the Native American Graves Protection and Repatriation Act (NAGPRA), 25 U.S.C. 3003, of the completion of an inventory of the human remains and associated funerary objects under the control of the USDA Tongass National Forest, Juneau Ranger District, Juneau, AK. The human remains and associated funerary objects were removed from Entrance Island, near Hobart Bay, AK, on two separate occasions by two separate collectors.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Tongass National Forest archeologists in partnership with the professional staff of the Alaska State Museum and in consultation with representatives of Douglas Indian Association and the Organized Village of Kake.

History and Description of the Remains

In the summer of 1961, funerary objects, in several pieces, were removed from a small cave on Entrance Island near Hobart Bay, AK. An individual exploring the island reported that he found a small cave that contained human remains and portions of a bentwood box, as well as some other burial items believed to have been placed there at the time of burial. He collected a basket of a type that reportedly was used to cradle a baby and sometimes was used to bury the deceased. Additional items collected include a piece of leather cordage, a portion of a woven cedar mat, and a piece of wood with evidence of a kerf corner, all of which were connected with either the basket or the bentwood box. The human remains and the bentwood box were not removed from the cave at that time. The individual returned the four burial items to the Tongass National Forest in 2017. Subsequently, it was determined that these funerary objects are associated with the below described human remains and funerary object that were separately collected by a different individual.

In 1961, the desiccated remains of an infant inside a bentwood box that had been wrapped in a cedar mat were removed from a small burial cave on Entrance Island, near Hobart Bay. In November 1961, these human remains and funerary objects were sent to the Alaska State Museum for curation. Based on oral testimony, this burial site and the above described burial cave are determined to be one and the same. The human remains consist of a single individual, a mummified infant, estimated to be between the ages of 6 and 9 months. Determination of sex or affinity based on skeletal features was not possible. The bentwood box containing the infant's remains was painted and uncarved. It was recovered from beneath the cedar bark mat. When found, the infant had ermine skins tied in its hair.

The human remains and associated funerary objects are believed to be of pre-contact or first contact date, as after contact, the Christian burial practice of underground internment became widespread. The human remains are reasonably believed to be associated with the Kéex Kwáan, who have traditionally used and occupied the island. The cultural affiliation of the human remains was determined by consulting Haa Aaní Our Land Tlingit and Haida Land Rights and Use, by Walter R. Goldschmidt and Theodore H. Haas, edited by Thomas F. Thorton (1998). Additional cultural affiliation information was provided by the Organized Village of Kake and the Douglas Indian Association. The Kéex Kwáan continue to live in their traditional territory and use the Hobart Bay area. Their present-day descendants are the Organized Village of Kake.

Determinations Made by the Tongass National Forest

Officials of the Tongass National Forest have determined that:

• Pursuant to 25 U.S.C. 3001(9), the human remains described in this notice represent the physical remains of one individual of Native American ancestry.

• Pursuant to 25 U.S.C. 3001(3)(A), the seven objects described in this notice are reasonably believed to have been placed with or near individual human remains at the time of death or later as part of the death rite or ceremony.

• Pursuant to 25 U.S.C. 3001(2), there is a relationship of shared group identity that can be reasonably traced between the human remains and associated funerary objects and the Organized Village of Kake.

Additional Requestors and Disposition

Lineal descendants or representatives of any Indian Tribe or Native Hawaiian organization not identified in this notice that wish to request transfer of control of these human remains and associated funerary objects should submit a written request with information in support of the request to M. Earl Stewart, Forest Supervisor, Tongass National Forest, 648 Mission Street, Ketchikan, AK 99901-6591, telephone (907) 228-6281, email estewart@fs.fed.us, by August 13, 2018. After that date, if no additional requestors have come forward, transfer of control of the human remains and associated funerary objects to the Organized Village of Kake may proceed.

The Tongass National Forest is responsible for notifying the Douglas Indian Association and the Organized Village of Kake that this notice has been published.

Dated: May 31, 2018.
Melanie O'Brien,
Manager, National NAGPRA Program.

[FR Doc. 2018-14903 Filed 7-11-18; 8:45 am]

BILLING CODE 4312-52-P